DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following meeting.

Name: Advisory Committee on Immunization Practices (ACIP).

Times and Dates: 8:30 am-4:30 p.m., February 26, 2003; 8 a.m.-3 p.m., February 27, 2003.

Place: Atlanta Marriott Century Center, 2000 Century Boulevard, NE., Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be Discussed: The agenda will include a discussion on the influenza vaccine ACIP recommendation; update on U.S. influenza vaccine strains; update on vaccine supply; update on smallpox program implementation; recommendations for storage of vaccines; update on IOM immunization safety review committee meetings; DTaP-HepB-IPV Vaccine for infants born to HBsAG+ mothers; availability of child and adult immunization schedule in PDA format; evidence-based tables in ACIP recommendations; public participation in formulating vaccine policy; vaccinating cochlear implant recipients for meningitis and pneumococcal disease; update on effect of pneumococcal conjugate vaccine on disease following introduction; impact of varicella vaccination program on herpes zoster; and update on the HIV vaccine working group.

Agenda items are subject to change as priorities dictate.

As provided under 41 CFR 102-3.150(b), the public health urgency of this agency business requires that the meeting be held prior to the first available date for publication of this notice in the Federal Register.

Contact Person for More Information: Demetria Gardner, Epidemiology and Surveillance Division, National Immunization Program, CDC, 1600 Clifton Road, NE., (E-61), Atlanta, Georgia 30333, telephone 404/639-8096, fax 404/639-8616.

The Director, Management Analysis and Services Office, has been delegated the authority to sign Federal Register notices pertaining to announcements of meetings and other committee management activities for both the CDC and ATSDR.

Dated: February 10, 2003.
Joseph Salter,
Acting Director, Management Analysis and Services Office, Centers for Disease Control and Prevention.

[FR Doc. 03-3771 Filed 2-14-03; 8:45 am]

BILLING CODE 4163-18-P